DEPARTMENT OF ENERGY

Federal Energy Regulatory Commission

[Docket No. RP96-312-043]

Tennessee Gas Pipeline Company; Notice of Negotiated Rate Filing

April 4, 2001.

Take notice that on March 30, 2001, Tennessee Gas Pipeline Company (Tennessee), tendered for filing and approval a Gas Transportation Agreement between Tennessee and Connecticut Natural Gas Corporation (CNG) pursuant to Tennessee's Rate Schedule FT-A (“FT-A Agreement”). The filed FT-A Agreement reflects a negotiated rate arrangement between Tennessee and CNG (Negotiated Rate Arrangement). Tennessee requests that the Commission accept and approve the Negotiated Rate Arrangement as soon as possible but no later than May 1, 2001, to be effective November 1, 2002.

Any person desiring to be heard or to protest said filing should file a motion to intervene or a protest with the Federal Energy Regulatory Commission, 888 First Street NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (Call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8781 Filed 4-9-01; 8:45 am]

BILLING CODE 6717-01-M